DEPARTMENT OF TRANSPORTATION

Federal Aviation Administration

14 CFR Part 71

[Docket No. FAA-2015-7203; Airspace Docket No. 15-ASO-14]

Establishment of Class D Airspace: Destin, FL; Duke Field, Eglin AFB, FL; Revocation of Class D Airspace; Eglin AF Aux No 3 Duke Field, FL; and Amendment of Class D and E Airspace; Eglin Air Force Base, FL; Eglin Hurlburt Field, FL; and Crestview, FL

AGENCY: Federal Aviation Administration (FAA), DOT.

ACTION: Final rule.

SUMMARY: This action establishes Class D airspace at Destin, FL, providing the controlled airspace required for the Air Traffic Control Tower at Destin Executive Airport, (formerly Destin-Fort Walton Beach Airport). Additionally, this action removes Eglin AF Aux No 3 Duke Field from the Class D designation, and establishes Duke Field, Eglin AFB, FL in its place. Controlled airspace is necessary for the safety and management of instrument flight rules (IFR) operations at the airport. This action also changes the existing Class D airspace designation at Duke Field, Eglin Air Force Base (AFB), FL, and adjusts the geographic coordinates of Eglin AFB, Destin Executive Airport, Duke Field, and Hurlburt Field, to stay in concert with the FAA's database.

DATES: Effective 0901 UTC, July 21, 2016. The Director of the Federal Register approves this incorporation by reference action under Title 1, Code of Federal Regulations, part 51, subject to the annual revision of FAA Order 7400.9Z and publication of conforming amendments.

ADDRESSES: FAA Order 7400.9Z, Airspace Designations and Reporting Points, and subsequent amendments can be viewed online at http://www.faa.gov/airtraffic/publications/. For further information, you can contact the Airspace Policy Group, Federal Aviation Administration, 800 Independence Avenue SW., Washington, DC 20591; telephone: 202-267-8783. The Order is also available for inspection at the National Archives and Records Administration (NARA). For information on the availability of FAA Order 7400.9Z at NARA, call 202-741-6030, or go to http://www.archives.gov/federal_register/code_of_federal-regulations/ibr_locations.html. FAA Order 7400.9Z, Airspace Designations and Reporting Points, is published yearly and effective on September 15.

FOR FURTHER INFORMATION CONTACT: John Fornito, Operations Support Group, Eastern Service Center, Federal Aviation Administration, P.O. Box 20636, Atlanta, Georgia 30320; telephone (404) 305-6364.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it establishes Class D airspace at Destin Executive Airport, Destin, FL, and Duke Field Eglin AFB, FL; and removes Class D airspace at Eglin AF Aux No 3 Duke Field; and amends Class D and Class E airspace at Eglin Air Force Base, FL.

History

On March 3, 2016, the FAA published in the Federal Register a notice of proposed rulemaking (NPRM) to establish Class D airspace at Destin Executive Airport, Destin, FL, and Duke Field Eglin AFB, FL; and remove Class D airspace at Eglin AF Aux No 3 Duke Field; and amend Class D and Class E airspace at Eglin Air Force Base, FL (81 FR 11136). Interested parties were invited to participate in this rulemaking effort by submitting written comments on the proposal to the FAA. No comments were received.

Class D and E airspace designations are published in paragraphs 5000, 6002, and 6005, respectively, of FAA Order 7400.9Z dated August 6, 2015, and effective September 15, 2015, which is incorporated by reference in 14 CFR part 71.1. The Class E airspace designations listed in this document will be published subsequently in the Order.

Availability and Summary of Documents for Incorporation by Reference

This document amends FAA Order 7400.9Z, Airspace Designations and Reporting Points, dated August 6, 2015, and effective September 15, 2015. FAA Order 7400.9Z is publicly available as listed in the ADDRESSES section of this document. FAA Order 7400.9Z lists Class A, B, C, D, and E airspace areas, air traffic service routes, and reporting points.

The Rule

This amendment to Title 14, Code of Federal Regulations (14 CFR) part 71 establishes Class D airspace up to and including 1,600 feet within a 4.4 mile radius of Destin Executive Airport, Destin, FL, providing the controlled airspace required to support the Air Traffic Control Tower. Additionally, this action removes the Class D designator for Eglin AF Aux No 3 Duke Field, FL, and replaces it with Duke Field, Eglin AFB, FL. This action also adjusts the geographic coordinates in Class D airspace, Class E surface area airspace, and Class E airspace extending upward from 700 feet above the surface for Eglin Air Force Base, FL, Destin Executive Airport, Duke Field, and Hurlburt Field, to stay in concert with the FAA's database. Also, Destin-Fort Walton Beach Airport is changed to Destin Executive Airport.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for Part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of Federal Aviation Administration Order 7400.9Z, Airspace Designations and Reporting Points, dated August 6, 2015, effective September 15, 2015, is amended as follows:

Paragraph 5000 Class D Airspace.

* * * * *

ASO FL D Destin, FL [New]

Destin Executive Airport, FL

(Lat. 30°24′00″ N., long. 86°28′17″ W.)

Eglin Air Force Base, FL

(Lat. 30°29′00″ N., long. 86°31′34″ W.)

That airspace extending upward from the surface to and including 1,600 feet MSL within a 4.4-mile radius of Destin Executive Airport, excluding that portion north of the triangle beginning at lat. 30°23′39″ N., long. 86°23′13″ W., to lat. 30°27′00″ N., long. 86°30′19″ W., to lat. 30°20′54″ N., long. 86°31′56″ W. This Class D airspace is effective during the operating hours of the Destin Executive Airport tower published in the Airport/Facility Directory. The airspace is incorporated into the Eglin Air Force Base, FL Class D airspace when the tower is closed.

ASO FL D Eglin Air Force Base, FL [Amended]

Eglin Air Force Base, FL

(Lat. 30°29′00″ N., long. 86°31′34″ W.)

Destin Executive Airport

(Lat. 30°24′00″ N., long. 86°28′17″ W.)

Duke Field

(Lat. 30°38′55″ N., long. 86°31′19″ W.)

Hurlburt Field

(Lat. 30°25′44″ N., long. 86°41′20″ W.)

That airspace extending upward from the surface to and including 2,600 feet MSL within a 5.5-mile radius of Eglin AFB, and within a 4.4-mile radius of Destin Executive Airport, excluding the portion north of a line connecting the 2 points of intersection within a 5.2-mile radius centered on Duke Field; excluding the portion southwest of a line connecting the 2 points of intersection within a 5.3-mile radius of Hurlburt Field; excluding a portion east of a line beginning at lat. 30°30′43″ N., long. 86°26′21″ W. extending east to the 5.5-mile radius of Eglin AFB. When the tower at Destin Executive Airport is operational, it excludes Destin's Class D airspace defined as that airspace south of the triangle beginning at lat. 30°23′39″ N., long. 86°23′13″ W. to lat. 30°27′00″ N., long. 86°30′19″ W. to lat. 30°20′54″ N., long. 86°31′56″ W. from the surface to and including 1,600 feet MSL.

ASO FL D Eglin AF Aux No 3 Duke Field, FL [Removed]

ASO FL D Duke Field Eglin AFB, FL [New]

Duke Field, FL

(Lat. 30°38′55 N., long. 86°31′19″ W.)

Crestview, Bob Sikes Airport

(Lat. 30°46′44″ N., long. 86°31′20″ W.)

Eglin AFB

(Lat. 30°29′00″ N., long. 86°31′34″ W.)

That airspace extending upward from the surface to and including 2,700 feet MSL within a 5.2-mile radius of Duke Field; excluding the portion north of a line connecting the 2 points of intersection with a 4.2-mile radius circle centered on Bob Sikes Airport; excluding the portion south of a line connecting the 2 points of intersection with a 5.5-mile radius circle centered on Eglin AFB. This Class D airspace area is effective during the specific dates and times established in advance by a Notice to Airmen. The effective date and time will thereafter be continuously published in the Airport/Facility Directory.

ASO FL D Eglin Hurlburt Field, FL [Amended]

Eglin, Hurlburt Field, FL

(Lat. 30°25′44″ N., long. 86°41′20″ W.)

Eglin AFB

(Lat. 30°29′00″ N., long. 86°31′34″ W.)

That airspace extending upward from the surface, to and including 2,500 feet MSL within a 5.3-mile radius of Hurlburt Field; excluding the portion northeast of a line connecting the 2 points of intersection with a 5.5-mile radius circle centered on Eglin AFB. This Class D airspace area is effective during the specific dates and times established in advance by a Notice to Airmen. The effective date and time will thereafter be continuously published in the Airport/Facility Directory.

Paragraph 6002 Class E Surface Area Airspace.

* * * * *

ASO FL E2 Crestview, FL [Amended]

Bob Sikes Airport, FL

(Lat. 30°46′44″ N., long. 86°31′20″ W.)

Duke Field, Eglin AFB

(Lat. 30°38′55″ N., long. 86°31′19″ W.)

Within a 4.2-mile radius of Bob Sikes Airport; excluding the portion south of a line connecting the 2 points of intersection with a 5.2-mile radius circle centered on Duke Field. This Class E airspace area is effective during the specific dates and times established in advance by a Notice to Airmen. The effective date and time will thereafter be continuously published in the Airport/Facility Directory.

Paragraph 6005 Class E Airspace Areas Extending Upward From 700 Feet or More Above the Surface of the Earth.

* * * * *

ASO FL E5 Eglin Air Force Base, FL [Amended]

Eglin Air Force Base, FL

(Lat. 30°29′00″ N., long. 86°31′34″ W.)

Destin Executive Airport

(Lat. 30°24′00″ N., long. 86°28′17″ W.)

Duke Field

(Lat. 30°38′55″ N., long. 86°31′19″ W.)

Hurlburt Field

(Lat. 30°25′44″ N., long. 86°41′20″ W.)

Fort Walton Beach Airport

(Lat. 30°24′23″ N., long. 86°49′45″ W.)

That airspace extending upward from 700 feet above the surface within a 7-mile radius of Eglin Air Force Base, and within a 7.8-mile radius of Destin Executive Airport, and within a 7-mile radius of Duke Field, and within a 7-mile radius of Hurlburt Field, excluding a 1.5-mile radius of Fort Walton Beach Airport.

Issued in College Park, Georgia, on June 9, 2016.
Ryan W. Almasy,
Manager, Operations Support Group, Eastern Service Center, Air Traffic Organization.

[FR Doc. 2016-14377 Filed 6-20-16; 8:45 am]

BILLING CODE 4910-13-P